DEPARTMENT OF COMMERCE

Foreign-Trade Zones Board

[B-47-2024]

Foreign-Trade Zone (FTZ) 72; Notification of Proposed Production Activity; Toyota Material Handling, Inc.; (Forklift Trucks, Work Trucks and Automated Guided Vehicles); Columbus, Indiana

Toyota Material Handling, Inc. submitted a notification of proposed production activity to the FTZ Board (the Board) for its facility in Columbus, Indiana within FTZ 72. The notification conforming to the requirements of the Board's regulations (15 CFR 400.22) was received on August 20, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include electric and spark ignition/diesel engine self-propelled trucks (forklift/lifting/handling/tow tractor/work) and automated guided vehicles (duty-free).

The proposed foreign-status materials/components include: vulcanized rubber articles (seals, O-rings, bushings, plugs, grommets, and washers); rear view mirrors; iron or steel articles (fittings, joints, unions, pipe fittings, screws, bolts, cotters, cotter pins, circlips, snap rings; and chain anchors, links and plates); iron, alloy or nonalloy steel articles (threaded couplings, elbows, fittings, sleeves, adapters, connectors and nipples); oil coolers; blowers; centrifugal fans; axial fans; cooling fans; fan motors; valves (check, control, hydrostatic, regulator, solenoid and thermostatic); ballcocks; bearings (ball, radial, thrust, double row ball, spherical roller, needle roller, cylindrical, plain shaft); tapered roller bearings, cones and cups; chain wheels; bushings; transmissions; gears; flywheels; pulleys; propeller shafts; differentials; drive units; gear plates; differential housings; gearboxes; torque convertor housings; torque convertor plates; yoke differentials; electric motors from 18.65W to 37.5W; electric motors under 18.65W; drive motors; DC motors to an output of 750W; DC motors of an output from 750W to 75kW; AC motors from 37.5W to 74.6W; AC multi-phase motors; starters; alternators; lamps; rear drive lights; rotating beacons; strobe lights; sealed beam headlamps; contactors; relays; headlamps; LED lights; electrical control boxes, boards and panels; electrical controllers; engine control units; and, sensors (duty rate ranges from duty-free to 9%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is October 7, 2024.

A copy of the notification will be available for public inspection in the “Online FTZ Information System” section of the Board's website.

For further information, contact Diane Finver at Diane.Finver@trade.gov.

Dated: August 21, 2024.
Elizabeth Whiteman,
Executive Secretary.

[FR Doc. 2024-19074 Filed 8-23-24; 8:45 am]

BILLING CODE 3510-DS-P